DEPARTMENT OF HOUSING AND URBAN DEVELOPMENT

[Docket No. FR-7036-N-01]

60-Day Notice of Proposed Information Collection: Veterans Housing Rehabilitation and Modification and Pilot Program; OMB Control No.: 2506-0213

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: April 30, 2021.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Jackie L. Williams, Ph.D., Office of Rural Housing and Economic Development, 451 7th Street SW, Washington, DC 20410; email Jackie.Williams@hud.gov; telephone (202) 708-2290. This is not a toll-free number. Persons with hearing or speech impairments may access this number through TTY by calling the toll-free Federal Relay Service at (800) 877-8339. Copies of available documents submitted to OMB may be obtained from Ms. Pollard.

Copies of available documents submitted to OMB may be obtained from Ms. Pollard.

SUPPLEMENTARY INFORMATION: This notice informs the public that HUD is seeking approval from OMB for the information collection described in Section A.

A. Overview of Information Collection

Title of Information Collection: FY 2020 Veterans Housing Rehabilitation and Modification and Pilot Program.

OMB Approval Number: 2506-0213.

Type of Request: Extension of a currently approved collection.

Form Number: SF-424; HUD 424CB; HUD 424-CBW; SF-LLL; HUD 2880; HUD 2990; HUD 2991; HUD 2993; HUD 2994A; HUD 27061; and HUD 27300.

Description of the need for the information and proposed use: The Veterans Housing Rehabilitation and Modification Pilot Program funding in FY 2020 was provided under the Further Consolidated Appropriations Act, 2020 (Pub. L. 116-94, approved December 20, 2019), the Consolidated Appropriations Act of 2018 (Pub. L. 115-141), and the Consolidated Appropriations Action, 2019 (Pub. L. 116-6). The purpose of VHRMP is to award grants to nonprofit veteran's service organizations to rehabilitate and modify the primary residence of disabled and low-income veterans. The program goal is to support eligible activities that serve the following objectives: (1) Modify and rehabilitate the primary residence of disabled and low-income veterans; (2) rehabilitate such residence that is in a state of interior and exterior disrepair; and (3) install energy efficient features or equipment. Information is required to rate and rank competitive applications and to ensure eligibility of applicants for funding. Quarterly reporting is required to monitor grant management.

Respondents: Public, Not-for-profit institutions.

Estimated Number of Respondents: 200.

Estimated Number of Responses: 200.

Frequency of Response: Once.

Average Hours per Response: 12.74.

Total Estimated Burdens: 2,548.

Information collection | Number of respondents | Frequency of response | Responses per annum | Burden hour per response | Annual burden hours | Hourly cost per response | Annual cost
HUD-424CB | 200 | 1 | 200 | 3.12 | 624 | 69.75 | $43,524.00
HUD-424CBW | 200 | 1 | 200 | 3.12 | 624 | 69.75 | 43,524.00
HUD-2880 | 200 | 1 | 200 | 2 | 400 | 69.75 | 27,900.00
HUD-2991 | 200 | 1 | 200 | 0 | 0 | 69.75 | 0
HUD-2993 | 200 | 1 | 200 | 0 | 0 | 69.75 | 0
HUD-2994A | 200 | 1 | 200 | 0.5 | 100 | 69.75 | 6,975.00
HUD-27061 | 200 | 1 | 200 | 1 | 200 | 69.75 | 13,950.00
HUD-27300 | 200 | 1 | 200 | 3 | 600 | 69.75 | 41,850.00
Total |  |  |  | 12.74 | 2,548 |  | 177,723.00
Annualized Cost @ $69.75/hr.: $172,550.56.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Principal Deputy Assistant Secretary for Community Planning and Development, James Arthur Jemison II, having reviewed and approved this document, is delegating the authority to electronically sign this document to submitter, Aaron Santa Anna, who is the Federal Register Liaison for HUD, for purposes of publication in the Federal Register.

Aaron Santa Anna,
Federal Register Liaison for the Department of Housing and Urban Development.

[FR Doc. 2021-04074 Filed 2-26-21; 8:45 am]

BILLING CODE 4210-67-P